DEPARTMENT OF COMMERCE

National Oceanic and Atmospheric Administration

[I.D. 032106A]

Fisheries of the Northeastern United States; Summer Flounder, Scup, and Black Sea Bass Fisheries; Scoping Process

AGENCY: National Marine Fisheries Service (NMFS), National Oceanic and Atmospheric Administration (NOAA), Commerce.

ACTION: Notice of intent (NOI) to prepare an environmental impact statement (EIS); notice of scoping meetings; request for comments.

SUMMARY: The Mid-Atlantic Fishery Management Council (Council) announces its intention to prepare, in cooperation with NMFS, an EIS in accordance with the National Environmental Policy Act to assess potential effects on the human environment of alternative measures for managing the summer flounder, scup, and black sea bass fisheries pursuant to the Magnuson-Stevens Fishery Conservation and Management Act. The Council intends to develop Amendment 15 to the Summer Flounder, Scup, and Black Sea Bass Fishery Management Plan (FMP) to address several issues regarding the subject fisheries (see SUPPLEMENTARY INFORMATION). This notice announces a public process for determining the scope of issues to be addressed and for identifying the significant issues related to the management of summer flounder, scup, and black sea bass. The intended effect of this notice is to alert the interested public of the scoping process, the development of the Draft EIS, and to provide for public participation.

DATES: Written comments on the intent to prepare an EIS must be received on or before 5 p.m., local time, on June 30, 2006. Public scoping meetings will be held in April and May 2006. For specific dates and times, see SUPPLEMENTARY INFORMATION.

ADDRESSES: You may submit comments on the intent to prepare the EIS or other relevant information by any of the following methods:

• E-mail: FSB-NOI@noaa.gov. Include in the subject line the following identifier: “FSB Amendment 15 Scoping Comments.”

• Mail: Daniel Furlong, Executive Director, Mid-Atlantic Fishery Management Council, Room 2115, Federal Building, 300 South New Street, Dover, DE 19901-6790. Mark the outside of the envelope: “Comments on Summer Flounder, Scup, and Black Sea Bass Amendment 15.”

• Fax: (302) 674-5399.

Copies of the scoping document may be obtained from the Council at the address above or via the Internet at http://www.mafmc.org/mid-atlantic/comments/comments.htm.

FOR FURTHER INFORMATION CONTACT: Daniel T. Furlong, (302) 674-2331.

SUPPLEMENTARY INFORMATION: The summer flounder, scup, and black sea bass fisheries are managed cooperatively by the Council and the Atlantic States Marine Fisheries Commission (Commission), in consultation with the New England and South Atlantic Fishery Management Councils.

The management units specified in the Summer Flounder, Scup, and Black Sea Bass FMP include summer flounder (Paralichthys dentatus) in U.S. waters of the Atlantic Ocean from the southern border of North Carolina northward to the U.S./Canada border, and scup (Stenotomus chrysops) and black sea bass (Centropristis striata) in U.S. waters of the Atlantic Ocean from 35°15.3′ N. lat. (the latitude of Cape Hatteras Lighthouse, Buxton, NC) northward to the U.S./Canada border.

The issues identified by the Council for discussion in Amendment 15 to the FMP include (further information regarding each issue follows):

• Modifications to the allocation of Total Allowable Landings (TAL) to the commercial and recreational fisheries for summer flounder and scup;

• Changes to the summer flounder, scup, and black sea bass commercial allocations;

Measures to reduce overcapacity in the summer flounder, scup, and black sea bass recreational and commercial fisheries;

• Modifications to the biological reference points for summer flounder, scup, and black sea bass;

• Separate allocations of quota to the party/charter sector of the recreational fishery for summer flounder, scup, and black sea bass;

• Separate allocations of quota to the shore-based fishermen in the recreational fishery for summer flounder, scup, and black sea bass;

• Measures to reduce discarding and/or discard mortality of summer flounder, scup, and black sea bass in the recreational and commercial fisheries;

• Modification to the reporting requirements for summer flounder, scup, and black sea bass through the vessel trip reporting, dealer weighout, and observer programs;

• Development of a conservation equivalency program for management of the recreational fishery for scup;

• Changes to the current management program for the summer flounder recreational fishery;

• Measures to allow the rollover of the unused portion of the TAL in the recreational and commercial fisheries for summer flounder, scup, and black sea bass, into the next fishing year; and

• Modifications to the limitations on vessel upgrades under moratorium permits for summer flounder, scup, and black sea bass.

Summer Flounder Commercial/Recreational Allocation

In 2003, NMFS received a petition that requested the current recreational/commercial allocation (which is 60 percent commercial and 40 percent recreational) be modified to provide 50 percent of the TAL to each sector. NMFS asked the Council and Commission to consider the petition. The Council considered this petition, recommended to NMFS that it be denied, and suggested that modifications to the summer flounder allocation could be considered in an amendment instead.

Summer Flounder Commercial Allocation

Currently, the commercial quota is allocated to each state based on historic landings from 1980 through 1989. State-by-state allocations were developed to allow each state the ability to develop specific management programs that were designed for the commercial fishery in their state. In recent years, fishermen from some states have expressed an interest in other options that could be used to allocate the quota, including an Individual Fishing Quota (IFQ) program.

Overcapacity in the Summer Flounder Commercial Fleet

A moratorium on Federal commercial permits and the state-by-state quota system have served to constrain effort in the commercial summer flounder fishery. However, the harvesting capacity may exceed the optimum yield on an annual basis, resulting in regulatory discards, derby fisheries, and negative impacts on habitat and protected resources.

Overcapacity in the Summer Flounder Recreational Fishery

The harvesting capacity of the summer flounder recreational fishery may exceed the optimum yield on an annual basis, resulting in regulatory discards, derby fishing, and overcrowding of popular fishing areas.

Summer Flounder Biological Reference Points

The current biological reference points for summer flounder that define overfishing (Fmsy) and an overfished (½ Bmsy) condition are based on yield-per-recruit calculations. Updated biological reference points were reviewed and accepted in June 2005 by a Stock Assessment Review Committee. There has been some interest in a reexamination of the reference points based on other methodologies and the use of stock recruit data.

Management of the Summer Flounder Party/Charter Fishery

A portion of the TAL could be allocated to the party/charter sector each year. Currently, fishermen fishing from party/charter boats are regulated by state regulations that apply to all recreational fishermen. A separate allocation could allow for the development of regulations that apply only to party/charter fishermen.

Management of the Summer Flounder Shore Fishery

A portion of the TAL could be allocated to fishermen fishing for summer flounder from shore. Currently, fishermen fishing from the shore and shore-based structures (e.g., jetties and bridges) are regulated by state regulations that apply to all recreational fishermen. A separate allocation could allow for the development of regulations that apply only to shore-based fishermen.

Management of the Summer Flounder Recreational Fishery

The summer flounder recreational fishery is currently managed with a system that allows for the Council and Commission to decide if coastwide or state-by-state (conservation equivalency) regulations should apply each year. Recent action by the Council and Commission would also allow for states to voluntarily form subregions and develop identical regulations for the states in that subregion. Some fishermen have expressed an interest in exploring other management options for the summer flounder recreational fishery.

Summer Flounder Discards

The issue of regulatory discards in the commercial and recreational fisheries for summer flounder has been raised a number of times over the years. However, based on sea sample data, discard rates in the commercial fishery have been relatively low on a coastwide basis. Discard rates are higher for vessels that fish for other groundfish species in states with lower trip limits and for summer flounder caught by scallop dredges. In addition, 10 percent of the summer flounder caught and released by anglers are assumed to die in the recreational fishery.

Scup Commercial/Recreational Allocation

There have been recent discussions regarding the allocation of allowable catch to the commercial and recreational fisheries for scup. The current allocation is 78 percent commercial and 22 percent recreational. Issues include modification of the methodology to change catch allocations to landings allocations and the potential for transferring unused commercial quota to the recreational fishery on an annual basis.

Scup Commercial Allocation

Current regulations allocate the commercial scup quota to three periods based on historic landings: Winter I, Summer, and Winter II. The regulations also allow for unused quota to be transferred from the Winter I to the Winter II period. There has been some discussion at Commission Board and Council meetings to modify the allocations to each period and also allow for the transfer of quota from Winter I to the Summer period.

Overcapacity in the Scup Commercial Fleet

A moratorium on Federal commercial permits and the quota system have acted to constrain effort in the commercial scup fishery. However, the harvesting capacity may exceed the optimum yield on an annual basis, resulting in regulatory discards, derby fisheries, and negative impacts on habitat and protected resources.

Overcapacity in the Scup Recreational Fishery

The harvesting capacity of the scup recreational fishery may exceed the optimum yield on an annual basis, resulting in regulatory discards, derby fishing, and overcrowding of popular fishing areas.

Scup Biological Reference Points

The biological reference points for scup have not been reviewed or updated recently due to the lack of data. The current proxies are based on yield-per-recruit calculations to define overfishing and the NMFS Northeast Fisheries Science Center spring survey to define when the stock is overfished. There has been some interest in revising these reference points when data become available.

Management of the Scup Party/Charter Fishery

A portion of the TAL for scup could be allocated to the party/charter sector each year. Currently, fishermen fishing from party/charter boats are regulated by state regulations that apply to all recreational fishermen. A separate allocation could allow for the development of regulations that apply only to party/charter fishermen.

Management of the Scup Shore Fishery

A portion of the TAL could be allocated to fishermen fishing for scup from shore. Currently, fishermen fishing from the shore and shore-based structures are regulated by state regulations that apply to all recreational fishermen. A separate allocation could allow for the development of regulations that apply only to shore-based fishermen.

Management of the Scup Recreational Fishery

Unlike summer flounder, conservation equivalency has not been identified for scup. The Federal fishery management plan requires coastwide management measures that are identical for each state. However, the Commission has adopted addenda for the last several years that allow states to develop alternative management measures for state waters. Given this difference, there is some interest in developing a conservation equivalency approach that could be incorporated into both the Federal and state fishery management plans.

Scup Discards

The issue of regulatory discards in the commercial and recreational fisheries for scup has been raised a number of times over the years. However, discard rates in the commercial fishery have been difficult to quantify. In addition, 15 percent of the scup caught and released by anglers are assumed to die in the recreational fishery.

Black Sea Bass Commercial Allocation

Under the current regulations, the black sea bass quota is administered on a coastwide basis by NMFS to facilitate a state-by-state approach that is implemented by the Commission. The current state-by-state allocations are in effect through 2007. State-by-state allocations were developed to allow each state to develop specific management programs that were designed for the commercial fishery in their state. In recent years, fishermen from some states have expressed an interest in other options that could be used to allocate the quota, including an IFQ program.

Overcapacity in the Black Sea Bass Commercial Fleet

A moratorium on Federal commercial permits and the quota system have acted to constrain effort in the commercial black sea bass fishery. However, the harvesting capacity may exceed the optimum yield on an annual basis, resulting in regulatory discards, derby fisheries, and negative impacts on habitat and protected resources.

Overcapacity in the Black Sea Bass Recreational Fishery

The harvesting capacity of the black sea bass recreational fishery may exceed the optimum yield on an annual basis, resulting in regulatory discards, derby fishing, and overcrowding of popular fishing areas.

Black Sea Bass Biological Reference Points

The most recent assessment on black sea bass, completed in June 2004, updated the proxies used to define overfishing and an overfished condition for black sea bass. Additional data and associated analyses may result in potential changes to those reference points.

Management of the Black Sea Bass Party/Charter Fishery

A portion of the TAL for black sea bass could be allocated to the party/charter sector each year. Currently, fishermen fishing from party/charter boats are regulated by state regulations that apply to all recreational fishermen. A separate allocation could allow for the development of regulations that apply only to party/charter fishermen.

Management of the Black Sea Bass Shore Fishery

A portion of the TAL could be allocated to the fishermen fishing for black sea bass from shore. Currently, fishermen fishing from the shore and shore-based structures are regulated by state regulations that apply to all recreational fishermen. A separate allocation could allow for the development of regulations that apply only to shore-based fishermen.

Black Sea Bass Discards

The issue of regulatory discards in the commercial and recreational fisheries for black sea bass has been raised a number of times over the years. However, discard rates have been difficult to quantify. In addition, about 25 percent of the black sea bass caught and released by anglers are assumed to die in the recreational fishery.

Data Collection Requirements and Protocols

To improve the information available for assessment of summer flounder, scup, and black sea bass, changes could be made to information required to be reported through the Vessel Trip Report, dealer weighout, and observer programs.

Rollover of Unused Quota

The unused portion of the TAL in the recreational and commercial fisheries for each of the species could be rolled into the next year's respective TAL.

Limitations on Vessel Replacement Upgrades

The current commercial permits for summer flounder, scup, and black sea bass allow for a one-time replacement/upgrade of 20 percent in horsepower and/or 10 percent in vessel length. Several individuals have indicated these restrictions may be unfair, particularly for small vessel owners. The Council could consider changes to these regulations.

Scoping Meetings Schedule

Ten public scoping meetings are scheduled as follows (note that NY meeting(s) to be determined):

1. Monday, April 3, 2006, 7 p.m.; Roanoke Island Festival Park, One Festival Park, Manteo, NC; Contact: Red Munden, (252) 726-7021.

2. Tuesday, April 4, 2006, 7 p.m.; Carteret Community College, CMAST Building, Room 306, Morehead City, NC; Contact: Red Munden, (252) 726-7021.

3. Tuesday, April 4, 2006, 7 p.m.; Virginia Marine Resources Commission, 2600 Washington Ave, 4th floor, Newport News, VA; Contact: Jack Travelstead, (757) 247-2247.

4. Monday, April 10, 2006, 6 p.m.; University of Rhode Island Narragansett Bay Campus, Corless Auditorium, South Ferry Road, Narragansett, RI; Contact: Brian Murphy, (401) 423-1941.

5. Monday, April 10, 6:30 p.m.; Ocean Pines Library, 11107 Cathell Road, Ocean Pines, MD; Contact: Howard J. King, III, (410) 260-8281.

6. Tuesday, April 11, 2006, 7 p.m.; Connecticut Department of Environmental Protection, Marine Headquarters, 333 Ferry Road, Old Lyme, CT; Contact: Dave Simpson, (860) 434-6043.

7. Tuesday, April 18, 2006, 7 p.m.; Ocean County Complex, 118 Washington Street; Toms River, NJ; Contact: Tom McCloy, (609) 292-7794.

8. Tuesday, April 18, 2006, 7 p.m.; Delaware Department of Natural Resources and Environmental Control, Richardson and Robbins Building Auditorium, 89 Kings Highway, Dover, DE; Contact: Rick Cole, (302) 739-4782.

9. Thursday, April 20, 2006, 6 p.m.; Radisson Plymouth Harbor, 180 Water Street, Plymouth, MA; Contact: David Pierce, (617) 626-1532.

10. Tuesday, May 2, 2006, 7 p.m.; Sheraton Oceanfront Hotel, 36th & Atlantic Avenue, Virginia Beach, VA; Contact: Dan Furlong, (302) 674-2331.

One or two public scoping meetings will be held in NY but have not yet been scheduled. Contact: Gordon Colvin, (631) 444-0433. This information will be posted on the Commission's website (http://www.asmfc.org) when available.

Special Accommodations

These meetings are physically accessible to people with disabilities. Requests for sign language interpretation or other auxiliary aids should be directed to Jan Saunders, (302) 674-2331, at least 5 days prior to the meeting date.

Authority: 16 U.S.C. 1801 et. seq.

Dated: March 22, 2006.
Alan D. Risenhoover,
Acting Director, Office of Sustainable Fisheries, National Marine Fisheries Service.

[FR Doc. E6-4500 Filed 3-27-06; 8:45 am]

BILLING CODE 3510-22-S